CORPORATION FOR NATIONAL AND COMMUNITY SERVICE

Strategic Plan Review

AGENCY: Corporation for National and Community Service.

ACTION: Notice of request for comments.

SUMMARY: The Corporation for National and Community Service (hereinafter the “Corporation”) announces a request for comments concerning its strategic plan. To comply with the Government Performance and Results Act (GPRA), the Corporation must revise its strategic plan by September, 2003. In making revisions, the Corporation seeks input from organizations and individuals interested in helping to define the Corporation's mission, goals, and strategies, including organization and management, to support a culture of citizenship, service, and responsibility in America. Final approval of the strategic plan rests with the Corporation's Board of Directors.

In addition to seeking input through this notice, the Corporation will hold a series of focus groups, meetings, and discussions with organizations and individuals interested in the Corporation. For further background information about the Corporation, you should visit our Web site at http://www.cns.gov. You may access the existing strategic plan at http://www.cns.gov/about/1997-2002.pdf.

DATES: The deadline for submitting comments is May 1, 2003.

ADDRESSES: You may send any comments to Ms. Winsome Packer at wpacker@cns.gov, or to the following address: Corporation for National and Community Service, Office of Research and Policy Development, Attn: Ms. Winsome Packer, 1201 New York Avenue, NW., Washington, DC 20525.

FOR FURTHER INFORMATION CONTACT: For further information concerning this notice, you may contact: Ms. Winsome Packer at (202) 606-5000, ext. # 498, or wpacker@cns.gov. The TDD number is (202) 565-2799.

Dated: February 25, 2003.
David Reingold,
Director, Research and Policy Development.

[FR Doc. 03-4937 Filed 3-3-03; 8:45 am]

BILLING CODE 6050-$$-P